FEDERAL EMERGENCY MANAGEMENT AGENCY

44 CFR Part 65

Changes in Flood Elevation Determinations

AGENCY: Federal Emergency Management Agency (FEMA).

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the following table and revise the Flood Insurance Rate Maps in effect for the listed communities prior to this date.

ADDRESSES: The modified BFEs for each community are available for inspection at the office of the Chief Executive Officer of each community. The respective addresses are listed in the table below.

FOR FURTHER INFORMATION CONTACT: Michael M. Grimm, Acting Chief, Hazards Study Branch, Federal Insurance and Mitigation Administration, FEMA, 500 C Street SW., Washington, DC 20472, (202) 646-2878, or (e-mail) Michael.Grimm@fema.gov.

SUPPLEMENTARY INFORMATION: FEMA makes the final determinations listed below of the modified BFEs for each community listed. These modified elevations have been published in newspapers of local circulation and ninety (90) days have elapsed since that publication. The Administrator, Federal Insurance and Mitigation Administration has resolved any appeals resulting from this notification.

The modified BFEs are not listed for each community in this notice. However, this rule includes the address of the Chief Executive Officer of the community where the modified BFEs determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Administrator, Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and Recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

1. The tables published under the authority of § 65.4 are amended as follows:

State and county | Location and case No.: | Date and name of newspaper where notice was published | Chief executive officer of community | Effective date of modification | Community No.
Arizona:
Cochise (FEMA Docket No. B-7429) | Cochise County (01-09-019P) | April 25, 2001, May 2, 2001, Arizona Range News | The Honorable Pat Call, Chairman, Cochise County, Board of Supervisors, 1415 West Melody Lane, Bisbee, Arizona 85603 | July 31, 2001 | 040012
Cochise (FEMA Docket No. B-7429) | City of Sierra Vista (01-09-492P) | April 18, 2002, April 25, 2002, Sierra Vista Herald | The Honorable Thomas J. Hessler, Mayor, City of Sierra Vista, 1011 North Coronado Drive, Sierra Vista, Arizona 85635 | August 1, 2002 | 040017
Maricopa (FEMA Docket No. B-7431) | Town of Carefree (01-09-1157P) (02-09-1409X) | August 29, 2002, September 5, 2002, Arizona Business Gazette | The Honorable Edward C. Morgan, Mayor, Town of Carefree, P.O. Box 740, Carefree, Arizona 85377 | December 5, 2002 | 040126
Maricopa (FEMA Docket No. B-7431) | Town of Cave Creek (01-09-1157P) (02-09-1409X) | August 29, 2002, September 5, 2002, Arizona Business Gazette | The Honorable Vincent Francia, Mayor, Town of Cave Creek, 37622 North Cave Creek Road, Cave Creek, Arizona 85331 | December 5, 2002 | 040129
Maricopa (FEMA Docket No. B-7431) | City of Chandler (02-09-248P) | July 24, 2002, July 31, 2002, Arizona Republic | The Honorable Jay Tibshraeny, Mayor, City of Chandler, 55 North Arizona Place, Chandler, Arizona 85225 | October 30, 2002 | 040040
Maricopa (FEMA Docket No. B-7429) | City of Mesa (02-09-260P) | June 13, 2002, June 20, 2002, Arizona Business Gazette | The Honorable Keno Hawker, Mayor, City of Mesa, P.O. Box 1466, Mesa, Arizona 85211-1466 | September 19, 2002 | 040048
Maricopa (FEMA Docket No. B-7429) | City of Scottsdale (02-09-1084X) | July 18, 2002, July 25, 2002, Arizona Republic | The Honorable Mary Manross, Mayor, City of Scottsdale, 3939 North Drinkwater Boulevard, Scottsdale, Arizona 85251 | October 24, 2002 | 045012
Maricopa (FEMA Docket No. B-7431) | City of Scottsdale (01-09-1157P) (02-09-1409X) | August 29, 2002, September 5, 2002, Arizona Business Gazette | The Honorable Mary Manross, Mayor, City of Scottsdale, 3939 North Drinkwater Boulevard, Scottsdale, Arizona 85251 | December 5, 2002 | 045012
Maricopa (FEMA Docket No. B-7431) | Unincorporated Areas (02-09-068P) | September 5, 2002, September 12, 2002, Arizona Business Gazette | The Honorable Don Stapley, Chairman, Maricopa County Board of Supervisors, 301 West Jefferson, 10th Floor, Phoenix, Arizona 85003 | August 21, 2002 | 040037
Pima (FEMA Docket No. B-7431) | City of Tucson (02-09-1050P) | September 18, 2002, September 25, 2002, Daily Territorial | The Honorable Robert Walkup, Mayor, City of Tucson, P.O. Box 27210, Tucson, Arizona 85726 | September 11, 2002 | 040076
Pima (FEMA Docket No. B-7431) | Unincorporated Areas (02-09-1007P) | September 19, 2002, September 26, 2002, Arizona Daily Star | The Honorable Raul Grijalva, Chairman, Pima County Board of Supervisors, 130 West Congress, 11th Floor, Tucson, Arizona 85701 | September 9, 2002 | 040073
Pima (FEMA Docket No. B-7429) | Unincorporated Areas (02-09-746X) | April 18, 2002, April 25, 2002, Tucson Citizen | The Honorable Raul Grijalva, Chairman, Pima County Board of Supervisors, 130 West Congress, 11th Floor, Tucson, Arizona 85701 | July 25, 2002 | 040073
Pinal (FEMA Docket No. B-7429) | Town of Kearny (01-09-283P) | June 5, 2002, June 12, 2002, Copper Basin News | The Honorable Debra Sommers, Mayor, Town of Kearny, P.O. Box 639, Kearny, Arizona 85237 | September 11, 2002 | 040085
Pinal (FEMA Docket No. B-7429) | Unincorporated Areas (01-09-283P) | June 5, 2002, June 12, 2002, Copper Basin News | The Honorable Jimmie B. Kerr, Chairman, Pinal County Board of Supervisors, P.O. Box 827, Florence, Arizona 85232-0827 | September 11, 2002 | 040077
California:
Alameda (FEMA Docket No. B-7431) | City of Dublin (00-09-931P) | July 26, 2002, August 2, 2002, Tri-Valley Herald | The Honorable Janet Lockhart, Mayor, City of Dublin, 100 Civic Plaza, Dublin, California 94568 | November 1, 2002 | 060705
Kern (FEMA Docket No. B-7429) | Unincorporated Areas (01-09-764P) | May 22, 2002, May 29, 2002, News Review | The Honorable Barbara Patrick, Chairperson, Kern County Board of Supervisors, 1115 Truxton Avenue, Fifth Floor, Bakersfield, California 93301 | August 28, 2002 | 060075
Los Angeles (FEMA Docket No. B-7429) | Unincorporated Areas (01-09-559P) | July 18, 2002, July 25, 2002, Los Angeles Times | The Honorable Zev Yaroslavsky, Chairperson, Los Angeles County Board of Supervisors, 821 Kenneth Hahn Hall of Administration, 500 West Temple Street, Los Angles, California 90012 | October 24, 2002 | 065043
Orange (FEMA Docket No. B-7429) | City of Orange (01-09-975P) | June 6, 2002, June 13, 2002, Orange County Register | The Honorable Mark Murphy, Mayor, City of Orange, 300 East Chapman Avenue, Orange, California 92866 | September 12, 2002 | 060228
Placer (FEMA Docket No. B-7429) | Town of Loomis (02-09-862P) | June 20, 2002, June 27, 2002, Loomis News | The Honorable Rhonda Morillas, Mayor, Town of Loomis, Town Hall, 6140 Horseshoe Bar Road, Suite K, Loomis, California 95650 | September 26, 2002 | 060721
Riverside (FEMA Docket No. B-7429) | City of Murrieta (01-09-849P) | April 4, 2002, April 11, 2002, Press-Enterprise | The Honorable Dick Ostling, Mayor, City of Murrieta, 26442 Beckman Court, Murrieta, California 92562 | March 18, 2002 | 060751
Riverside (FEMA Docket No. B-7429) | City of Perris (01-09-524P) | April 25, 2002, May 2, 2002, Press-Enterprise | The Honorable Daryl Busch, Mayor, City of Perris, 101 North D Street, Perris, California 92570 | April 1, 2002 | 060258
Riverside (FEMA Docket No. B-7429) | Unincorporated Areas (01-09-849P) | April 4, 2002, April 1,, 2002, Press-Enterprise | The Honorable Jim Venable, Chairman, Riverside County Board of Supervisors, 4080 Lemon Street, 14th Floor, Riverside, California 92501 | March 18, 2002 | 060245
San Diego (FEMA Docket No. B-7429) | City of Carlsbad (02-09-594P) | May 23, 2002, May 30, 2002, North County Times | The Honorable Claude A. Lewis, Mayor, City of Carlsbad, 1200 Carlsbad Village Drive, Carlsbad, California 92008 | August 29, 2002 | 060285
Yolo (FEMA Docket No. B-7431) | City of Winters (02-09-649P) | August 1, 2002, August 8, 2002, Winters Express | The Honorable Harold Anderson, Mayor, City of Winters, 318 First Street, Winters, California 95694-1923 | July 11, 2002 | 060425
Colorado:
Arapahoe (FEMA Docket No. B-7429) | City of Cherry Hills Village (02-08-052P) | May 2, 2002, May 9, 2002, Denver Post | The Honorable John Welbron, Mayor, City of Cherry Hills Village, 2450 East Quincy Avenue, Cherry Hills Village, Colorado 80110 | April 12, 2002 | 080013
Boulder (FEMA Docket No. B-7429) | Unincorporated Areas (02-08-082P) | April 4, 2002, April 11, 2002, Daily Camera | The Honorable Jana L. Mendez, Chairperson, Boulder County Board of Commissioners, P.O. Box 471, Boulder, Colorado 80306-0471 | March 25, 2002 | 080023
Boulder (FEMA Docket No. B-7429) | City of Lafayette (02-08-331P) | May 20, 2002, May 24, 2002, Daily Camera | The Honorable Dale Avery, Mayor, City of Lafayette, 1290 South Public Road, Lafayette, Colorado 80026 | August 23, 2002 | 080026
Boulder (FEMA Docket No. B-7429) | City of Longmont (02-08-082P) | April 4, 2002, April 11, 2002, Daily Times Call | The Honorable Julia Pirnack, Mayor, City of Longmont, 350 Kimbark Street, Longmont Colorado 80501 | March 25, 2002 | 080027
El Paso (FEMA Docket No. B-7431) | City of Colorado Springs (02-08-141P) | August 14, 2002, August 21, 2002, The Gazette | The Honorable Mary Lou Makepeace, Mayor, City of Colorado Springs, P.O. Box 1575, Colorado Springs, Colorado 80901-1575 | August 6, 2002 | 080060
Jefferson (FEMA Docket No. B-7431) | City of Golden (02-08-185P) | August 8, 2002, August 15, 2002, Denver Post | The Honorable Charles J. Branch, Mayor City of Golden, 911 10th Street, Golden, Colorado 80401 | November 14, 2002 | 080090
Jefferson (FEMA Docket No. B-7431) | City of Westminster (02-08-013P) | September 12, 2002, September 19, 2002, Westminster Window | The Honorable Ed Moss, Mayor, City of Westminster, 4800 West 92nd Avenue, Westminster, Colorado 80031 | December 19, 2002 | 080008
Jefferson (FEMA Docket No. B-7431) | Unincorporated Areas (02-08-185P) | August 8, 2002, August 15, 2002, Denver Post | The Honorable Michelle Lawrence, Chairman, Jefferson County Board of Commissioners, 100 Jefferson County Parkway, Golden, Colorado 80419 | July 23, 2002 | 080087
Weld (FEMA Docket No. B-7431) | Town of Firestone (01-08-384P) | July 31, 2002, August 7, 2002, Farmer and Miner | The Honorable Michael Simone, Mayor, Town of Firestone, P.O. Box 100, Firestone, Colorado 80520 | November 6, 2002 | 080241
Weld (FEMA Docket No. B-7431) | Unincorporated Areas (01-08-384P) | July 31, 2002, August 7, 2002, Farmer and Miner | The Honorable Glenn Vaad, Chairman, Weld County Board of Commissioners, P.O. Box 758, Greeley, Colorado 80632-0758 | July 11, 2002 | 080266
Hawaii:
Hawaii (FEMA Docket No. B-7429) | Hawaii County (02-09-633P) | May 23, 2002, May 30, 2002, Hawaii Tribune Herald | The Honorable Harry Kim, Mayor, Hawaii County, 25 Aupuni Street, Hilo, Hawaii 96720 | May 3, 2002 | 155166
North Dakota:
Stark (FEMA Docket No. B-7429) | City of Dickinson (02-08-057P) | May 9, 2002, May 16, 2002, Dickinson Press | The Honorable Dennis W. Johnson, Mayor, City of Dickinson, 99 Second Street East, Dickinson, North Dakota 58601 | August 15, 2002 | 380117
Utah:
Salt Lake (FEMA Docket No. B-7429) | City of Draper (02-08-198P) | June 26, 2002, July 7, 2002, Salt Lake Tribune | The Honorable Darrell H. Smith, Mayor, City of Draper, 12441 South 900 East, Draper, UT 84020 | October 2, 2002 | 490244
Utah (FEMA Docket No. B-7431) | City of Spanish Fork (01-08-306P) | August 28, 2002, September 4, 2002, Daily Herald | The Honorable Dale Barney, Mayor, City of Spanish Fork, 40 South Main Street, Spanish Fork, Utah 84660 | February 16, 2003 | 490241
Utah (FEMA Docket No. B-7431) | Unincorporated Areas (01-08-306P) | August 28, 2002, September 4, 2002, Daily Herald | The Honorable Jerry Grover, Chairman, Utah County Board of Commissioners, County Administration Building, 100 East Center Street, Suite 2300, Provo, Utah 84606 | December 4, 2002 | 495517
Wyoming: Teton (FEMA Docket No. B-7429) | Unincorporated Areas (02-08-268P) | July 17, 2002, July 24, 2002, Jackson Hole News | The Honorable Bill Paddleford, Chairperson, Teton County Board of Commissioners, County Courthouse, P.O. Box 3594, Jackson, Wyoming 83001 | July 8, 2002 | 560094

(Catalog of Federal Domestic Assistance No. 83.100, “Flood Insurance.”)
Dated: January 21, 2003.
Anthony S. Lowe,
Administrator, Federal Insurance and Mitigation Administration.

[FR Doc. 03-2248 Filed 1-30-03; 8:45 am]

BILLING CODE 6718-04-P